DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Understanding Recreational Angler Attitudes and Preferences for Saltwater Fishing.

OMB Control Number: None.

Form Number(s): NA.

Type of Request: Regular submission (request for a new information collection).

Number of Respondents: 6,541.

Average Hours per Response: 20 minutes.

Burden Hours: 2,180.

Needs and Uses: This request is for a new collection of information.

The objective of the survey will be to understand the range of attitudes, preferences, and concerns that recreational anglers hold towards saltwater fishing. NOAA is conducting this survey to improve its understanding of anglers' expectations and how they may change with fish stock recovery. As more stocks recover, the survey is well-timed to inform fisheries management on anglers' satisfaction with current management and the types of goals and objectives that should be pursued (e.g., in developing guidelines). Results of the survey will be used to inform fisheries management and planning and establish a baseline for outreach and education.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 16, 2012.
Gwellnar Banks,
Management Analyst, Office of the Chief Information Officer.

[FR Doc. 2012-25759 Filed 10-18-12; 8:45 am]

BILLING CODE 3510-22-P